NUCLEAR REGULATORY COMMISSION

[NRC-2010-0143]

Notice of Intent To Prepare an Environmental Impact Statement for the Proposed International Isotopes Uranium Processing Facility

AGENCY: Nuclear Regulatory Commission.

ACTION: Notice of Intent.

SUMMARY: International Isotopes Fluorine Products, Inc. (IIFP), a wholly owned subsidiary of International Isotopes, Inc. (INIS), submitted a license application, which included an Environmental Report (ER) on December 30, 2009, that proposes the construction, operation, and decommissioning of a fluorine extraction and depleted uranium de-conversion facility to be located near Hobbs in Lea County, New Mexico. The U.S. Nuclear Regulatory Commission (NRC), in accordance with the National Environmental Policy Act (NEPA) and its regulations in 10 Code of Federal Regulations Part 51, announces its intent to prepare an Environmental Impact Statement (EIS) evaluating this proposed action. The EIS will examine the potential environmental impacts of the proposed INIS facility.

DATES: NRC invites public comments on the appropriate scope of issues to be considered in the EIS. The public scoping process required by NEPA begins with publication of this Notice of Intent. Written comments submitted by mail should be postmarked by no later than August 30, 2010 to ensure consideration. Comments mailed after that date will be considered to the extent practical.

The NRC will conduct a public scoping meeting in Hobbs, New Mexico, to assist in defining the appropriate scope of the EIS, and to help identify the significant environmental issues that need to be addressed in detail. The meeting date, time, and location are listed below:

Meeting Date: July 29, 2010.

Meeting Time: 5:30 p.m. to 8:30 p.m.

Meeting Location: Lea County Event Center, 5101 Lovington Highway, Hobbs, New Mexico 88240.

ADDRESSES: Members of the public are invited and encouraged to submit written comments regarding the appropriate scope and content of the EIS. Comments may be submitted by any one of the methods described below. Please include Docket ID NRC-2010-0143 in the subject line of your comments. Comments submitted in writing or in electronic form will be posted on the NRC's Agencywide Documents Access and Management System (ADAMS) Web site http://www.nrc.gov/reading-rm/adams.html and on the Federal rulemaking Web site http://www.regulations.gov. Because your comments will not be edited to remove any identifying or contact information, the NRC cautions you against including any information in your submission that you do not want to be publicly disclosed. Also, the NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0143. Comments may be submitted electronically through this Web site. Address questions about NRC dockets to Carol Gallagher at 301-492-3668, or e-mail at Carol.Gallagher@nrc.gov.

Mail/fax comments to: Cindy Bladey, Chief, Rules, Announcements, and Directives, and Branch (RADB), Division of Administrative Services, Office of Administration, Mail Stop: TWB-05-B01M, U.S. Nuclear Regulatory Commission, Washington, DC 20555-0001. Commenters may also send comments electronically to INIS_EIS@nrc.gov or by fax to (301) 492-3446.

FOR FURTHER INFORMATION CONTACT: For general or technical information associated with the licensing review of the INIS application, please contact Matthew Bartlett at (301) 492-3119 or Matthew.Bartlett@nrc.gov. For general information on the NRC NEPA process or the environmental review process related to the INIS application, please contact Asimios Malliakos at (301) 415-6458 or Asimios.Malliakos@nrc.gov

Information and documents associated with the INIS project, including the application and ER, are available for public review through our electronic reading room: http://www.nrc.gov/reading-rm/adams.html. Members of the public may access the applicant's ER in the NRC's (ADAMS) at accession number ML100120758.

A copy of the applicant's ER is available for public inspection at the Hobbs Public Library located at 509 North Shipp, Hobbs, New Mexico 88240. Documents may also be obtained from NRC's Public Document Room at U.S. Nuclear Regulatory Commission Headquarters, 11555 Rockville Pike (first floor), Rockville, Maryland 20852.

SUPPLEMENTARY INFORMATION:

1.0 Background

On December 30, 2009, INIS submitted an ER to the NRC as part of its license application for authorization to construct, operate, and decommission a proposed fluorine extraction process and depleted uranium de-conversion facility. The EIS will evaluate the potential environmental impacts associated with the proposed INIS uranium processing facility. The environmental evaluation will be documented in the draft and final EISs in accordance with NEPA and NRC's implementing regulations at 10 CFR part 51.

2.0 INIS Uranium Processing Facility

The INIS facility, if licensed, would provide services to the uranium enrichment industry for de-conversion of depleted uranium hexafluoride (DUF6) into uranium oxides for long-term stable disposal. The proposed facility would also produce high-purity inorganic fluorides for applications in the electronic, solar panel, and semiconductor markets and anhydrous hydrofluoric acid for various industrial applications. The proposed facility is projected to be capable of deconverting up to 7.5 million pounds per year of DUF6 provided by commercial enrichment facilities throughout the United States.

3.0 Alternatives To Be Evaluated

No-Action—The no-action alternative would be to not build the proposed INIS uranium processing facility. Under this alternative, the NRC would not approve the license application. This alternative serves as a baseline for comparison.

Proposed action—The proposed action involves the construction, operation, and decommissioning of a uranium processing facility to be located near Hobbs, New Mexico. The applicant would be issued an NRC license under the provisions of 10 CFR part 40.

Other alternatives not listed here may be identified through the scoping process.

4.0 Environmental Impact Areas To Be Analyzed

The following areas have been tentatively identified for detailed analysis in the EIS:

• Land Use: plans, policies, and controls;

• Transportation: transportation modes, routes, quantities, and risk estimates;

• Geology and Soils: physical geography, topography, geology, and soil characteristics;

• Water Resources: surface and groundwater hydrology, water use and quality, and the potential for degradation;

• Ecology: wetlands, aquatic, terrestrial, economically and recreationally important species, and threatened and endangered species;

• Air Quality: meteorological conditions, ambient background, pollutant sources, and the potential for degradation;

• Noise: ambient, sources, and sensitive receptors;

• Historical and Cultural Resources: historical, archaeological, and traditional cultural resources;

• Visual and Scenic Resources: landscape characteristics, manmade features, and viewshed;

• Socioeconomics: demography, economic base, labor pool, housing, transportation, utilities, public services and facilities, education, recreation, and cultural resources;

• Environmental Justice: potential disproportionately high and adverse impacts to minority and low-income populations;

• Public and Occupational Health: potential public and occupational consequences from construction, routine operation, transportation, and credible accident scenarios (including natural events);

• Waste Management: types of wastes expected to be generated, handled, and stored; and

• Cumulative Effects: impacts from past, present and reasonably foreseeable actions at and near the site.

This list is not intended to be all inclusive, nor is it a predetermination of potential environmental impacts. The list is presented to facilitate comments on the scope of the EIS. Additions to, or deletions from this list may occur as a result of the public scoping process.

5.0 Scoping Meeting

One purpose of this notice is to encourage public involvement in the EIS process and to solicit public comments on the proposed scope and content of the EIS. Scoping is an early and open process designed to determine the range of actions, alternatives, and potential impacts to be considered in the EIS and to identify the significant issues related to the proposed action. It is intended to solicit input from the public and other agencies so that the analysis can be more clearly focused on issues of genuine concern. The principal goals of the scoping process are to:

• Ensure that concerns are identified early and are properly studied;

• Identify alternatives to be examined;

• Identify significant issues to be analyzed;

• Eliminate unimportant issues from detailed consideration; and

• Identify public concerns.

On July 29, 2010, the NRC will hold a public scoping meeting at the Lea County Event Center in Hobbs, New Mexico, to solicit both oral and written comments from interested parties. The meeting will be transcribed to record public comments. The meeting will convene at 5:30 p.m. and will continue until approximately 8:30 p.m.

The meeting will begin with NRC staff providing a description of the NRC's role and mission. A brief overview of the licensing process will be followed by a brief description of the environmental review process. Most of the meeting time will be allotted for attendees to make oral comments.

In addition, the NRC staff will host informal discussions for 1 hour prior to the start of the public meeting. No formal comments on the proposed scope of the EIS will be accepted during the informal discussions. To be considered, comments must be provided either at the transcribed public meeting or in writing, as discussed below.

Persons may register to attend or present oral comments at the scoping meeting by contacting Tarsha Moon at (301) 415-6745, or by sending an e-mail to INIS_EIS@nrc.gov no later than July 22, 2010. Members of the public may also register to speak at the meeting prior to the start of the session. Individual oral comments may be limited by the time available, depending on the number of persons who register. Members of the public who have not registered may also have an opportunity to speak, if time permits. If special equipment or accommodations are needed to attend or present information at the public meeting, please contact Tarsha Moon no later than July 19, 2010, so that the NRC staff can determine whether the request can be accommodated.

6.0 Scoping Comments

Members of the public may provide comments orally at the transcribed public meeting or in writing. Written comments may be sent by e-mail to INIS_EIS@nrc.gov or mailed/faxed to the address listed above in the ADDRESSES Section.

At the conclusion of the scoping process, the NRC staff will prepare a summary of public comments regarding the scope of the environmental review and significant issues identified. NRC staff will send this summary to each participant in the scoping process for whom the staff has an address. This summary and project-related material will be available for public review through our electronic reading room: http://www.nrc.gov/reading-rm/adams.html. The scoping meeting summaries and project-related materials will also be available on the NRC's INIS Web page: http://www.nrc.gov/materials/fuel-cycle-fac/inisfacility.html.

7.0 The NEPA Process

The EIS for the INIS facility will be prepared pursuant to the National Environmental Policy Act of 1969 as amended and the NRC's NEPA Regulations at 10 CFR part 51. After the scoping process is complete, the NRC will prepare a draft EIS. There will be a 45-day comment period on the draft EIS and a public meeting to receive comments. Availability of the draft EIS, the dates of the public comment period, and information about the public meeting will be announced in the Federal Register, on NRC's INIS web page, and in the local news media. The final EIS will include responses to any comments received on the draft EIS.

Dated at Rockville, Maryland, this 8th day of July, 2010.
For the Nuclear Regulatory Commission.
David Skeen,
Acting Deputy Director, Decommissioning and Uranium Recovery Licensing Directorate, Division of Waste Management and Environmental Protection, Office of Federal and State Materials and Environmental Management Programs.

[FR Doc. 2010-17253 Filed 7-14-10; 8:45 am]

BILLING CODE 7590-01-P